DEPARTMENT OF STATE

[Delegation of Authority No. 265]

Delegation of Authority to the U.S. Agency for International Development Administrator

By virtue of the authority vested in me as Under Secretary of State for Management, including the authority delegated to me by the Secretary of State in Delegation of Authority No. 148-1, dated September 9, 1981, and Delegation of Authority No. 198, dated September 16, 1992, I hereby delegate to the Administrator of the United States Agency for International Development (“Administrator”) the function conferred upon the Secretary of State in section 824(g) of the Foreign Service Act of 1980 (22 U.S.C. 4064(g)) with respect to the waiver of salary/annuity limitations for Foreign Service annuitants reemployed, on a temporary basis, by the United States Agency for International Development in support of operations in Iraq and Afghanistan.

This authority may be re-delegated by the Administrator to the Director of Personnel for the United States Agency for International Development.

Notwithstanding any provisions of this Delegation of Authority, the Secretary of State, the Deputy Secretary of State, the Under Secretary of State for Management, and the Director General of the Foreign Service and Director of Human Resources may at any time exercise the functions herein delegated.

Any reference in this Delegation of Authority to any statute or delegation of authority shall be deemed to be a reference to such statute or delegation of authority as amended from time to time.

This Delegation of Authority shall be published in the Federal Register.

Dated: November 6, 2003.
Grant S. Green,
Under Secretary of State for Management, Department of State.

[FR Doc. 03-29012 Filed 11-19-03; 8:45 am]

BILLING CODE 4710-15-P